DEPARTMENT OF AGRICULTURE

Farm Service Agency

[Docket ID FSA-2020-0008]

Information Collection Requests; Generic Clearance for the Collection of Qualitative Customer Feedback on the Farm Service Agency Service Delivery (0560-0286), and Certified State Mediation Program (0560-0165)

AGENCY: Farm Service Agency, USDA.

ACTION: Notice; request for comments.

SUMMARY: In accordance with the Paperwork Reduction Act (PRA) of 1995, the Farm Service Agency (FSA) is requesting comments from all interested individuals and organizations associated with the extension of two information collection requests. The two collection requests are Generic Clearance for the Collection of Qualitative Customer Feedback on the Farm Service Agency Service Delivery (0560-0286), and Certified State Mediation Program (0560-0165). For Generic Clearance for the Collection of Qualitative Customer Feedback on FSA Service Delivery, this option is a fast track for approval to streamline the timing to implement certain types of surveys and related collection of information. FSA uses the approval to cover the instruments of collection (such as a survey, a window pop-up survey, a focus group, or a comment card), which are designed to get customer feedback on FSA service delivery for various programs. This request for approval broadly addresses FSA's need for information about what our customers think of our services so that we can improve service delivery; specific information collection activities will be incorporated into the approval as the need for the information is identified. For example, when we implement a new program and provide information about the services for the program on our website, we may provide a voluntary customer service questionnaire about how well the program is working for our customers, specifically within the area of customer service. FSA is requesting to increase the number of respondents in the fast track approval due to an anticipated increase in the number of customer respondents responding to customer service surveys that will be sent to a broader scope and greater number of FSA customers. For Certified State Mediation Program collection is necessary to ensure that the grant program is administered properly. The collection of information is used to determine whether participants meet the eligibility requirements to be a recipient of grant funds. Lack of adequate information to make the determination could result in the improper administration of Federal grant funds.

DATES: We will consider comments that we receive by November 3, 2020.

ADDRESSES: We invite you to submit comments on this notice. In your comments, please include date, volume, and page number of this issue of the Federal Register. You may submit comments by the following method: Federal eRulemaking Portal; Go to http://www.regulations.gov and search for Docket ID FSA-2020-00xx.

You may also send comments to the Desk Officer for Agriculture, Office of the Information and Regulatory Affairs, Office of Management and Budget, Washington, DC 20503. Comments will be available for public inspection online at http://www.regulations.gov.

FOR FURTHER INFORMATION CONTACT: For specific questions related to the collection activities or to obtain a copy of the information collection request: For the Generic Clearance for the Collection of Qualitative Customer Feedback on the Farm Service Agency Service Delivery (0560-0286), please contact Mary Ann Ball, 202-205-5851, maryann.ball@usda.gov, and for the Certified State Mediation Program (0560-0165), please contact Tracy Jones, 202-720-6771, tracy.jones@usda.gov.

SUPPLEMENTARY INFORMATION:

Title: Generic Clearance for the Collection of Qualitative Customer Feedback on Farm Service Agency Service Delivery.

OMB Control Number: 0560-0286.

Expiration Date of Approval: November 30, 2020.

Type of Request: Extension.

Abstract: FSA program staff have created several feedback instruments (customer surveys) and submitted them to the FSA information collection coordinator for approval under the current approved information collection of 0560-0286, Generic Clearance for the Collection of Qualitative Customer Feedback on Farm Service Agency Service Delivery. FSA program staff continue to use the fast track approval to submit a new customer instruments to the FSA information collection coordinator for approval, which takes less time rather than going through a regular Paperwork Reduction Act process. As a result, program staff are able to quickly implement certain types of surveys and related collection of information using OMB control number of 0560-0286. For example, when we implement a new program and provide information about the programs on our website, FSA may provide a voluntary customer service questionnaire about how well the program is working for our customers, specifically within the area of customer service. The information collection provides a means to gather qualitative customer and stakeholder feedback in an efficient, timely manner that is consistent with FSA's commitment to improving service delivery. By qualitative feedback, we mean information, generally from customers, that provides useful insights on perceptions and opinions based on experiences with FSA service delivery. Such information does not include statistical surveys that yield quantitative results that can be generalized to the population. The qualitative feedback will: Provide insights into customer or stakeholder perceptions, experiences, and expectations, Provide an early warning of issues with service, and Focus attention on areas where communication, training, or changes in operations might improve delivery of products or services. The collection will allow for ongoing, collaborative, and actionable communication between FSA and its customers and stakeholders. It will also allow feedback to contribute directly to the improvement of program management. The solicitation of feedback will target areas such as: Timeliness, appropriateness, accuracy of information, courtesy, efficiency of service delivery, and resolution of issues with service delivery. Responses will be assessed to plan and inform efforts to improve or maintain the quality of service offered to the public. If this information is not collected, vital feedback from customers and stakeholders on FSA's services will be unavailable. FSA will only submit a collection for approval under this generic clearance if it meets the following conditions: The collections are voluntary; The collections are low-burden for respondents (based on considerations of total burden hours, total number of respondents, or burden-hours per respondent) and are low-cost for both the respondents and the Federal Government; The collections are non- controversial and do not raise issues of concern to other Federal agencies; The collections are targeted to the solicitation of opinions from respondents who have experience with the program or may have experience with the program in the near future; Personally identifiable information (PII) is collected only to the extent necessary and is not retained; Information gathered will be used only internally for general service improvement and program management purposes and is not intended for release outside of FSA; Information gathered will not be used for the purpose of substantially informing influential policy decisions; and Information gathered will yield qualitative information; the collections will not be designed or expected to yield statistically reliable results or used as though the results are generalizable to the population of study. As a general matter, information collections will not result in any new system of records containing privacy information and will not ask questions of a sensitive nature, such as religious beliefs, sexual behavior and attitudes, and other matters that are commonly considered private.

There are no changes to the annual burden hours in this collection. For the following estimated total annual burden on respondents, the formula used to calculate the total burden hours is the estimated average time per response multiplied by the estimated total annual number of responses.

Estimate of Average Time to Respond: Public reporting burden for collecting information under this notice is estimated to average 11 minutes (0.17734 hours) per response, including the time for reviewing instructions, searching existing data sources, gathering and maintaining the data needed, and completing and reviewing the collection of information. Specifically, it will be 10 minutes per customer feedback surveys, 15 minutes per comment cards, and 3 hours per focus groups.

Respondents: Individuals and Households; Businesses; Organizations; and State, Local, or Tribal government.

Estimated Number of Respondents: 210,500.

Estimated Annual Number of Responses per Respondent: 1.

Estimated Total Annual Responses: 210,500.

Estimated Average Time per Response: 11 minutes (0.17734 hours).

Estimated Total Annual Burden Hours on Respondents: 37,333 hours.

Title: Certified State Mediation Program (7 CFR 785).

OMB Control Number: 0560-0165.

Expiration Date of Approval: December 31, 2020.

Type of Request: Revision and extension.

Abstract: FSA administers the Certified State Mediation Program (Program) according to Subtitles A and B of the Title V of the Agricultural Credit Act of 1987 (7 U.S.C. 5106). To effectively administer the Program, FSA requires an application for recertification, which includes submission of a letter from the State, a letter from the grantee, SF-424, SF-424A, SF-424B, and SF-425. Approved grantees provide a mid-year report as well as an annual report that includes information on mediation services provided during the preceding Federal fiscal year, assessment of the performance and effectiveness of the State's Program, and any other matters related to the Program as the State elects to include. In addition, approved grantees complete SF-270 to request either advance funding or reimbursement of expenses already paid. The information requested is necessary for FSA to determine the grantee's eligibility and administer the Program effectively.

In this request, the burden hours increased by 2,392, and the number of responses increased by 318. The number of States changed from 40 to 42 increasing participation in the Certified State Mediation Program. Also, the 2018 Farm Bill (Pub. L. 115-334) expanded the areas of covered issues that States could mediate and that increased the average time per respondents in this request.

For the following estimated total annual burden on respondents, the formula used to calculate the total burden hours is the estimated average time per response multiplied by the estimated total annual responses.

Estimate of Average Time to Respond: Public reporting burden for collecting information under this notice is estimated to average 7.33 hour per response, including the time for reviewing instructions, searching existing data sources, gathering and maintaining the data needed, and completing and reviewing the collections of information.

Type of Respondents: State.

Estimated Number of Respondents: 42.

Estimated Average Number of Responses per Respondent: 8.99.

Estimated Total Annual Responses: 378.

Estimated Average Time per Response: 7.33 hours.

Estimated Total Annual Burden on Respondents: 2,771 hours.

Requesting Comments

FSA is requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Steven Peterson,
Acting Administrator, Farm Service Agency.

[FR Doc. 2020-19540 Filed 9-3-20; 8:45 am]

BILLING CODE 3410-05-P